DEPARTMENT OF COMMERCE

International Trade Administration

[A-823-812]

Changed Circumstances Review of the Antidumping Duty Order on Carbon and Certain Alloy Steel Wire Rod From Ukraine: Opportunity To Comment on the Status of Ukraine as a Non-Market Economy Country and Extension of Final Results

AGENCY: Import Administration, International Trade Administration, Department of Commerce.

DATES: January 12, 2006.

ACTION: Request for Comments and Extension of Final Results.

SUMMARY: The Department of Commerce is requesting further comment on whether Ukraine should continue to be treated as a non-market economy country for purposes of the antidumping duty law. The final results for this changed circumstance review are therefore extended by thirty days, making the new deadline February 16, 2006. Written comments (original and six copies) should be sent to David Spooner, Assistant Secretary for Import Administration, U.S. Department of Commerce, Central Records Unit, Room 1870, 14th Street and Constitution Avenue NW., Washington, DC 20230.

FOR FURTHER INFORMATION CONTACT: Lawrence Norton or Shauna Lee-Alaia, Office of Policy, Import Administration, U.S. Department of Commerce, 14th Street and Constitution Avenue, NW., Washington DC, 20230; telephone: 202-482-1579 or 202-482-2793, respectively.

Background

On April 2, 2005, the Government of Ukraine's Ministry of Economy and European Integration requested that the Department of Commerce conduct a review of Ukraine's status as a non-market economy (“NME”) country within the context of a changed circumstances review of the antidumping duty order on carbon and certain alloy steel wire rod from Ukraine. In response to this request, the Department initiated a changed circumstances review in order to determine whether Ukraine should continue to be treated as an NME country for purposes of the antidumping law, pursuant to sections 751(b) and 771(18)(C)(ii) of the Tariff Act of 1930, as amended (“the Act”). See Initiation of a Changed Circumstances Review of the Antidumping Duty Order on Carbon and Certain Alloy Steel Wire Rod from Ukraine, 70 FR 21396 (April 26, 2005). In its notice of initiation, the Department invited public comment on Ukraine's ongoing economic reforms and received extensive initial and rebuttal comments on July 11, 2005, and August 31, 2005, respectively. These comments have been made available to the public at the Import Administration Web site at the following address: http://ia.ita.doc.gov/. In addition, the Department has compiled and analyzed information regarding Ukrainian economic reforms from independent third-party sources that it commonly cites for market economy status decisions.

Opportunity for Public Comment and Extension of Final Results

In order to consider any economic and institutional developments that occurred in Ukraine since the closure of the record in this review that may be of importance to the Department's decision, the Department is inviting further public comment on reforms in Ukraine. Specifically, the Department invites comment on such developments in relation to the factors listed in section 771(18)(B) of the Act, which the Department must take into account in making a market/non-market economy decision:

(i) The extent to which the currency of the foreign country is convertible into the currency of other countries;

(ii) The extent to which wage rates in the foreign country are determined by free bargaining between labor and management;

(iii) The extent to which joint ventures or other investments by firms of other foreign countries are permitted in the foreign country;

(iv) The extent of government ownership or control of the means of production;

(v) The extent of government control over allocation of resources and over price and output decisions of enterprises; and

(vi) Such other factors as the administering authority considers appropriate.

In order to provide opportunity to consider the comments, the Department is extending the deadline for the final results of this changed circumstance review by thirty days, making the new deadline February 16, 2006.

Comments—Deadline, Format, and Number of Copies

The deadline for submission of comments is January 25, 2006. The deadline for rebuttal comments is February 1, 2006. Each person submitting comments should include his or her name and address. To facilitate their consideration by the Department, comments should be submitted in the following format: (1) Begin each comment on a separate page; (2) concisely state the issue identified and discussed in the comment and include any supporting documentation in exhibits or appendices; (3) provide a brief summary of the comment (a maximum of three sentences) and label this section “summary of comment”; (4) provide an index or table of contents; and (5) include the case number, A-823-812, in the top right hand corner of the submission.

Persons wishing to comment should file a signed original and six copies of each set of comments by the dates specified above. All comments responding to this notice will be a matter of public record and will be available for public inspection and copying at Import Administration's Central Records Unit, Room B-099, between the hours of 8:30 a.m. and 5 p.m. on business days. The Department requires that comments be submitted in written form. The Department recommends submission of comments in electronic media, preferably in Portable Document Format (PDF), to accompany the required paper copies. Comments filed in electronic form should be submitted on CD-ROM as comments submitted on diskettes are likely to be damaged by postal radiation treatment.

Comments received in electronic form will be made available to the public on the Internet at the Import Administration Web site at the following address: http://ia.ita.doc.gov/.

Any questions concerning file formatting, document conversion, access on the Internet, or other electronic filing issues should be addressed to Andrew Lee Beller, Import Administration Webmaster, at (202) 482-0866, e-mail: webmaster-support@ita.doc.gov.

Dated: January 12, 2006.
David Spooner,
Assistant Secretary for Import Administration.

[FR Doc. 06-461 Filed 1-17-06; 8:45 am]

BILLING CODE 3510-DS-P